DEPARTMENT OF COMMERCE

National Oceanic and Atmospheric Administration

RIN 0648-XF014

General Advisory Committee to the United States Section to the Inter-American Tropical Tuna Commission; Statement of Organization, Practices, and Procedures

AGENCY: National Marine Fisheries Service (NMFS), National Oceanic and Atmospheric Administration (NOAA), Commerce.

ACTION: Notice.

SUMMARY: On May 27, 2016, the General Advisory Committee to the United States Section to the Inter-American Tropical Tuna Commission adopted the Statement of Organization, Practices, and Procedures (SOPP) as set forth. The General Advisory Committee may revise or amend the SOPP in future meetings.

FOR FURTHER INFORMATION CONTACT: Rachael Wadsworth, NMFS, West Coast Region, (562) 980-4036.

Statement of Organization, Practices, and Procedures

I. Authority

The General Advisory Committee (Committee) to the U.S. Section to the Inter-American Tropical Tuna Commission (IATTC) is established pursuant to Section 4 of the Tuna Conventions Act (TCA; 16 U.S.C. 953).

II. Committee Organization

A. Objectives and Scope of Activities

The purpose of the Committee shall be to serve in an advisory capacity to the U.S. National Section of the IATTC (U.S. Section) with respect to the U.S. participation in the work of the IATTC, with particular reference to development of U.S. policies, positions, and negotiating tactics. The U.S. Section consists of the four U.S. Commissioners to the IATTC, who represent the United States with advisors from the U.S. Department of State, the National Marine Fisheries Service (NMFS), and other agencies of the U.S. Government. NMFS and U.S. Department of State representatives will be acting for the Secretaries of Commerce and State, respectively, to fulfill duties described in this Statement of Organization, Practices, and Procedures.

B. Support Services

NMFS and the Secretary of State shall furnish the Committee with relevant information concerning fisheries and international fishery agreements. NMFS shall provide to the Committee in a timely manner such administrative and technical support services as are necessary for its effective functioning.

Executive Secretariat. NMFS shall provide an Executive Secretariat for each meeting of the Committee. The Executive Secretariat shall approve and attend all meetings and shall advise the Chair to adjourn, or shall herself/himself adjourn, any meeting when in the public interest. The Executive Secretariat will prepare an agenda and circulate it amongst Committee members in advance of the meeting for feedback and approve the agenda. The Executive Secretariat shall ensure that the minutes of each meeting are prepared, of which the accuracy shall be certified by the Chair. The Executive Secretariat will also maintain copies of all reports the Committee receives, issues, or approves.

C. Procedures

The Committee shall determine its organization and prescribe its practices and procedures for carrying out its functions under the TCA, the Magnuson-Stevens Fishery Conservation and Management Act (16 U.S.C. 1801 et seq.), and the Antigua Convention. The Committee shall publish and make available to the public a statement of its organization, practices, and procedures.

D. Agency or Official to Whom the Committee Reports

The Committee shall report, either orally or in writing, to NMFS, U.S. Department of State, and to the U.S. Section.

III. Membership and Terms

A. Membership

The Secretary of Commerce, in consultation with the Secretary of State, shall appoint the members of the Committee.

Committee composition. The Committee shall have no fewer than 5, or no more than 25, individuals, and the ex-officio members will be counted towards the total number of individuals. The Committee shall be representative of the various groups concerned with the fisheries covered by the Antigua Convention, including nongovernmental conservation organizations, providing an equitable balance among such groups to the maximum extent practicable.

Ex-officio members. The Chair of the Pacific Fishery Management Council's Advisory Subpanel for Highly Migratory Fisheries and the Chair of the Western Pacific Regional Fishery Management Council's Advisory Panel shall be ex-officio members of the Committee by virtue of their positions with those Councils.

B. Appointment Terms

Each member of the Committee shall serve for a term of three years and is eligible for reappointment.

IV. Officers and Terms of Office

A. Committee Chair and Vice-Chair

Every 3 years, the Committee will appoint its Chair for a term of 3 years. Every 3 years, the Committee will appoint its Vice-Chair for a term of 3 years. Each Chair shall be eligible for reappointment for up to 2 terms as Chair. Similarly, each Vice-Chair shall be eligible for reappointment for up to 2 terms as Vice-Chair. If a vacancy occurs, the Committee shall appoint a Chair or Vice-Chair to serve the remainder of the term; such service shall not count toward the term limits.

V. Subcommittee

A. Subcommittee

NMFS shall appoint a Scientific Advisory Subcommittee to advise the Committee, pursuant to Section 4 of the TCA.

VI. Administrative Matters

A. Meetings

All meetings of the Committee shall be open to the public, except when in executive session, which shall be closed to the public. Officers of the U.S. Department of State, U.S. Department of Commerce, the U.S. Coast Guard, and representatives of any other agencies of the U.S. Government responsible for matters pertaining to fisheries in the eastern Pacific Ocean may attend and participate in all meetings of the Committee.

Sensitive information, including discussion of the U.S. negotiating position for upcoming IATTC meetings, other than input from the public, may be discussed in executive session. NMFS shall be responsible for providing notice of meetings to the public in a timely fashion. The Committee is not subject to the Federal Advisory Committee Act (5 U.S.C. App.).

B. Number and Frequency of Meetings

The Committee shall meet at least once per year. If sufficient funds are available, one of the Committee meetings shall be an in-person meeting. All meetings shall be called by the Executive Secretariat, subject to the approval of the Commissioner who is also a full-time employee of the U.S. Government. There shall be no requirement of a quorum.

C. Attendance in U.S. Delegation

The Committee shall be invited to attend all non-executive meetings of the U.S. delegation and at such meetings shall be given opportunity to examine and to be heard on all proposed programs of investigation, reports, recommendations, and regulations of the IATTC. Participation as a member of the U.S. delegation shall be subject to such limits as may be placed on the size of the delegation.

D. Closed Meetings

Executive sessions of the Committee shall be closed to the public, and all discussion occurring in these sessions shall not be disclosed publicly unless otherwise specified by an appropriate U.S. Government official. The Committee may choose to invite the Subcommittee members that are not also Committee members to executive sessions of the Committee. Below are examples of when the Committee may go into executive sessions:

a. The Committee is considering the U.S. negotiating position prior or subsequent to international meetings.

b. The Committee is being briefed on litigation in which the Committee is interested.

c. The Committee is discussing internal operational matters.

To the extent practicable, notice of closed sessions on matters of substance should be included in the Federal Register notice announcing the Committee meeting.

E. Duration

The Committee is a statutory body and may be terminated only by law.

F. Recordkeeping

The Executive Secretariat shall prepare the minutes of each meeting, which shall at a minimum contain: (1) A record of all persons present; (2) the names of persons from the public who attend the meeting and their interests or affiliations; (3) a description of matters and materials discussed and conclusions reached and the rationale for same; and (4) copies of all reports received, issued, or approved by the Committee. The Executive Secretariat shall distribute the minutes to the Committee members for their review. The Chair of the Committee shall certify the accuracy of all minutes of the Committee.

The Executive Secretariat shall endeavor to provide any draft U.S. IATTC proposals to the Committee members at least five days prior to the meeting of the Committee. The Executive Secretariat shall provide a summary of any available information from bilateral or multilateral meetings between the United States and other nations to the Committee members.

The records for the Committee and any working group will be handled in accordance with NOAA Administrative Order 205-1 governing the NOAA Records Management Program. Such records will be available for public inspection and copying, to the extent required by 5 U.S.C. 552. The Executive Secretariat shall ensure that all records and other written materials are maintained and available for inspection to the extent required by law.

Authority: 16 U.S.C. 951 et seq.

Dated: November 8, 2016.
Jennifer M. Wallace,
Acting Director, Office of Sustainable Fisheries, National Marine Fisheries Service.

[FR Doc. 2016-27294 Filed 11-10-16; 8:45 am]

BILLING CODE 3510-22-P